DEPARTMENT OF THE INTERIOR

Fish and Wildlife Service

[FWS-R4-ES-2010-N247; 40120-1113-0000-C2]

Endangered and Threatened Wildlife and Plants; Notice of Availability of the St. Andrew Beach Mouse Recovery Plan

AGENCY: Fish and Wildlife Service, Interior.

ACTION: Notice of document availability.

SUMMARY: We, the Fish and Wildlife Service, announce the availability of the recovery plan for the St. Andrew beach mouse (Peromyscus polionotus peninsularis). The recovery plan includes specific recovery objectives and criteria to be met in order to reclassify this species to threatened status and delist it under the Endangered Species Act of 1973, as amended (Act).

ADDRESSES: You can obtain copies of the St. Andrew beach mouse recovery plan by contacting the Panama City Field Office, U.S. Fish and Wildlife Service, 1601 Balboa Avenue, Panama City, FL 32405 (telephone (850) 769-0552) or by visiting our Web site at http://endangered.fws.gov/recovery/index.html#plans or http://fws.gov/panamacity/.

FOR FURTHER INFORMATION CONTACT: Ben Frater at the above address (telephone 850/769-0552, ext. 248; TTY users may contact Mr. Frater through the Federal Relay Service at (800) 877-8339).

SUPPLEMENTARY INFORMATION:

Background

The St. Andrew beach mouse was listed as endangered on December 18, 1998 (63 FR 70053). The endangered St. Andrew beach mouse is now found in two populations: East Crooked Island, Bay County, Florida, and St. Joseph Peninsula, Gulf County, Florida.

The St. Andrew beach mouse inhabits the frontal dunes (which are composed of the primary and secondary dunes) and adjacent inland scrub dunes within the coastal ecosystem. Beach mice require well-developed dune systems in which to live out their life cycle. They dig their burrows into the face of the dunes near vegetative cover. Their diet is comprised primarily of the seeds and fruits of plants within their dune habitat, with insects providing seasonal supplements.

Threats to the St. Andrew beach mouse include habitat loss/alteration from land development and associated human use, hurricanes and other tropical storm events, nonnative predators, and recreational activities associated with development and tourism that weaken and encroach on the dune ecosystem. Availability of suitable habitat may be a limiting factor during periods of population expansion or following catastrophic weather events. Due to the species' limited range and fragmentation of its habitat, these threats combined continue to present a threat to the species' existence.

Restoring an endangered or threatened animal or plant to the point where it is again a secure, self-sustaining member of its ecosystem is a primary goal of our endangered species program. To help guide the recovery effort, we are preparing recovery plans for most listed species. Recovery plans describe actions considered necessary for conservation of the species, establish criteria for downlisting or delisting, and estimate time and cost for implementing recovery measures.

The Act (16 U.S.C. 1533 et seq.) requires the development of recovery plans for listed species, unless such a plan would not promote the conservation of a particular species. Section 4(f) of the Act requires us to provide a public notice and an opportunity for public review and comment during recovery plan development. We made the draft St. Andrew beach mouse recovery plan available for public comment from April 22, 2009 through June 22, 2009 (74 FR 18403). We considered information we received during the public comment period and information from peer reviewers in our preparation of this final recovery plan. We will forward substantive comments to other Federal agencies so that each agency can consider these comments in implementing approved recovery plans.

Recovery Plan Components

The objective of this plan is to provide a framework for the recovery of the St. Andrew beach mouse, so that protection under the Act is no longer necessary. The plan presents criteria for reclassifying and delisting the beach mouse. As these criteria are met, the status of the species will be reviewed and it will be considered for reclassification or removal from the Federal List of Endangered and Threatened Wildlife.

The St. Andrew beach mouse will be considered for downlisting to threatened status when the following criteria are achieved:

1. Stable or increasing population trends are maintained at St. Joseph Peninsula State Park and East Crooked Island on Tyndall Air Force Base over a 10-year period based on data obtained from accepted standardized monitoring methods.

2. An additional viable or self sustaining population is reestablished at St. Joe Beach that shows a stable or increasing trend, after the initial repopulation of unoccupied habitat, over a 10-year period based on data obtained from accepted standardized monitoring methods.

3. At least 87 percent of designated St. Andrew beach mouse critical habitat is protected and under a management plan that addresses conservation of beach mice. The plans, at a minimum, address the following:

(a) Impact of commercial/residential development and recreational use, including that of pedestrians and motorized vehicles, to beach mouse habitat.

(b) Impact of shoreline erosion to beach mouse habitat.

(c) Impact of artificial lighting on beach mouse habitat.

(d) Control of feral cats and hogs in beach mouse habitat.

4. In areas with known populations of beach mice (Tyndall Air Force Base's property at East Crooked Island, St. Joseph Peninsula State Park, and their respective adjacent private lands), non-native predators, including free roaming cats and cat colonies, are controlled at levels in which they do not pose a threat to beach mice.

5. County or local government, within the range of the St. Andrew beach mouse, have regulations or other protection mechanisms that:

(a) Minimize impacts to dunes in beach mouse habitat due to recreational use.

(b) Prohibit free-roaming cats and cat colonies.

(c) Minimize impacts of commercial and residential developments in primary, secondary, and scrub dunes. Measures include minimizing footprints; preserving connectivity between primary, secondary and scrub dunes; using native landscaping; and constructing boardwalks over dunes for beach access.

(d) Minimize impacts of artificial lighting in beach mouse habitat by requiring sea turtle lighting, in areas visible from the beach and wildlife lighting, in areas not visible from the beach.

6. An emergency response plan is prepared to prevent extirpation of any population of St. Andrew beach mice from tropical storms/hurricanes and other disasters.

7. If determined to be necessary, an Action Plan is prepared to address the potential threat of cross-breeding with Choctawhatchee beach mice from West Crooked Island.

8. House mice are controlled in areas with known populations of beach mice at levels in which they do not pose a threat to the population(s).

The St. Andrew beach mouse will be considered for removal from the Federal List of Endangered and Threatened Wildlife when the following criteria are achieved:

1. Stable or increasing population trends are maintained at St. Joseph Peninsula State Park, East Crooked Island on Tyndall Air Force Base, and St. Joe Beach over a 20-year period based on data obtained from accepted standardized monitoring methods.

2. An additional viable population is reestablished at Cape San Blas, Eglin Air Force Base, and has a stable or increasing population trend over a 10-year period based on data obtained from standardized monitoring methods.

3. All designated St. Andrew beach mouse critical habitat on public land is protected and under a management plan that addresses conservation of beach mice, priority is given to those lands that provide connectivity. The plans, at a minimum, manage for the following:

(a) Impact of commercial/residential development and recreational use, including that of pedestrians and motorized vehicles, to beach mouse habitat.

(b) Impact of shoreline erosion to beach mouse habitat.

(c) Impact of artificial lighting on beach mouse habitat.

(d) Control of feral cats and hogs, including free ranging cats in beach mouse habitat.

4. Within all critical habitat that is protected and under a management plan, non-native predators, including free roaming cats and cat colonies, are controlled at levels in which they do not pose a threat to beach mice.

5. County or local government regulations or other protection mechanisms as set forth in the downlisting criteria have adequate compliance and enforcement.

6. House mice continue to be deemed a minimal or no threat to St. Andrew beach mouse populations.

Authority

The authority for this action is section 4(f) of the Endangered Species Act, 16 U.S.C. 1533(f).

Dated: October 25, 2010.
Mark J. Musaus,
Acting Regional Director, Southeast Region.

[FR Doc. 2010-32666 Filed 12-27-10; 8:45 am]

BILLING CODE 4310-55-P